NUCLEAR REGULATORY COMMISSION

[Docket No. 03-005980]

Consideration of Amendment Request for Sorting, Characterizing, and Repackaging Waste at the Safety Light Corporation Facility, Bloomsburg, PA, and Opportunity for a Hearing

AGENCY: Nuclear Regulatory Commission.

ACTION: Notice of consideration of amendment request for sorting, characterizing, and repackaging waste at the Safety Light Corporation facility, Bloomsburg, Pennsylvania, and opportunity for a hearing.

The U.S. Nuclear Regulatory Commission is considering issuance of a license amendment to By-Product Materials License No. 37-00030-02 (License No. 37-00030-02), issued to Safety Light Corporation (SLC), to authorize the sorting, characterizing, and repackaging of containerized waste located at the SLC facility in South Central Township, about five miles from Bloomsburg, Pennsylvania.

During 1999 and 2000, the licensee removed waste from two underground silos, as part of site remediation of the radiological contamination at the SLC facility, in accordance with the conditions described in License No. 37-00030-02. The waste is stored in two temporary waste storage areas, because additional sorting and characterization of the waste is required. The SLC facility is located adjacent to the Susquehanna River, so these storage areas potentially could flood during severe hurricane-type conditions. On February 6, 2002, the licensee submitted the “Work Plan for SLC, Bloomsburg, PA, Radioactive Waste Repackaging” (Work Plan) for NRC review and approval. The radioactive contamination in this waste, based on previous characterization data, consists primarily of tritium, Sr-90 and Cs-137 that is regulated by NRC, and Ra-226 that is regulated by the Commonwealth of Pennsylvania Department of Environmental (PADEP). There may also be some mixed waste (radioactive and hazardous waste) that is dually regulated by NRC and PADEP. The waste material had been placed within two underground silos during previous operations at the facility, which began during the late 1940s. These operations by United States Radium Corporation and later the SLC, involved the manufacturing and distributing of self-illuminating watch and instrument dials, and other uses of a variety of radioactive material until about 1968, when tritium was the only radionuclide used.

During all waste processing activities, the NRC will require the licensee to maintain effluents and doses within NRC requirements, and as low as reasonably achievable. Prior to approving the Work Plan and supporting information, the NRC will have made findings required by the Atomic Energy Act of 1954, as amended, and NRC's regulations. Approval of the Work Plan at the SLC Bloomsburg, PA facility will be documented in an amendment to License No. 37-00030-02. The NRC has coordinated this NRC licensing action with PADEP and the United States Environmental Protection Agency Region III, which have separate jurisdictions related to this waste material and this facility.

The NRC hereby provides notice that this is a proceeding on an application for amendment of a license falling within the scope of Subpart L “Informal Hearing Procedures for Adjudication in Materials Licensing Proceedings,” of NRC's rules and practice for domestic licensing proceedings in 10 CFR Part 2. Pursuant to 10 CFR 2.1205(a), any person whose interest may be affected by this proceeding may file a request for a hearing in accordance with 10 CFR 2.1205(c). A request for hearing must be filed withing thirty (30) days of the date of publication of the Federal Register Notice.

The request for the hearing must be filed with the Office of the Secretary either:

1. By delivery to the Document Control Desk or may be delivered to the Commission's Public Document Room, 11555 Rockville Pike, Rockville, MD 20852-2738; or

2. By mail or telegram addressed to the Secretary, U.S. Nuclear Regulatory Commission, Washington, DC 20555-0001, Attention: Rulemakings & Adjudications Staff.

In addition to meeting other applicable requirements of 10 CFR Part 2 of the NRC's regulations, a request for a hearing filed by a person other than an applicant must describe in detail:

1. The interest of the requester in the proceeding;

2. How that interest may be affected by the results of the proceeding, including the reasons why the requester should be permitted a hearing, with particular reference to the factors set out in 10 CFR 2.1205(g);

3. The requesters areas of concern about the licensing activity that is the subject matter of the proceeding; and

4. The circumstances establishing that the request for a hearing is timely in accordance with 10 CFR 2.1205(c).

In accordance with 10 CFR 2.1205(e), each request for a hearing must also be served, by delivering it personally or by mail, to:

1. The applicant, Safety Light Corporation, 4150-A Old Berwick Road, Bloomsburg, PA 17815, Attention: Larry Harmon, Plant Manager; and

2. The NRC staff, by delivery to the Executive Director for Operations, One White Flint North, 11555 Rockville Pike, Rockville, MD 20852, or by mail, addressed to the Executive Director for Operations, U.S. Nuclear Regulatory Commission, Washington, DC 20555.

For further details with respect to this action, the Work Plan and supporting information dated February 6, April 25 and May 28, 2002 is available for inspection at the NRC's Public Document Room, 11555 Rockville Pike, Rockville, MD, and from http://www.nrc.gov/reading-rm.html.

Dated at King of Prussia, Pennsylvania, this 27th day of June 2002.
For the Nuclear Regulatory Commission.
Francis M. Costello,
Deputy Director, Division of Nuclear Materials Safety, RI.

[FR Doc. 02-16830 Filed 7-3-02; 8:45 am]

BILLING CODE 7590-01-P